DEPARTMENT OF TRANSPORTATION

Coast Guard

[USCG 2001-11149]

Guidelines for Assessing Merchant Mariners through Demonstrations of Proficiency for Persons in Charge of Medical Care

AGENCY: Coast Guard, DOT.

ACTION: Notice of availability and request for comments.

SUMMARY: The Coast Guard announces the availability of, and seeks public comments on, the national performance measures proposed here for use as guidelines when mariners demonstrate their proficiency as Persons in Charge of Medical Care. These measures were developed from recommendations and input provided by the Merchant Marine Personnel Advisory Committee (MERPAC).

DATES: Comments related material must reach the Docket Management Facility on or before February 19, 2002.

ADDRESSES: Please identify your comments and related material by the docket number of this rulemaking [USCG 2001-11149]. Then, to make sure they enter the docket just once, submit them by just one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov.

In choosing among these means, please give due regard to the recent difficulties with delivery of mail by the U.S. Postal Service to Federal facilities.

The Docket Management Facility maintains the public docket for this notice. Comments and related material received from the public, as well as documents mentioned in this Notice, will become part of this docket and will be available for inspection or copying at room PL-401 on the Plaza level of the Nassif Building, 400 Seventh Street, SW., Washington, DC between 9 a.m. and 5 p.m., Monday through Friday, except Federal holidays. You may also find this docket on the Internet at http://dms.dot.gov.

The measures proposed here are also available from Mr. Mark Gould, Maritime Personnel Qualifications Division, Office of Operating and Environmental Standards, Commandant (G-MSO-1), U.S. Coast Guard Headquarters, telephone 202-267-0229, or e-mail address mgould@comdt.uscg.mil.

FOR FURTHER INFORMATION CONTACT: For questions on this Notice or on the national performance measures proposed here, e-mail or call Mr. Gould where indicated under ADDRESSES. For questions on viewing or submitting material to the docket, call Ms. Dorothy Beard, Chief, Dockets, Department of Transportation, telephone 202-366-9329.

SUPPLEMENTARY INFORMATION:

What Action Is the Coast Guard Taking?

Section A-VI/4-2 of the Code accompanying the International Convention on Standards of Training, Certification and Watchkeeping for Seafarers (STCW), 1978, as amended in 1995, articulates qualifications for ensuring merchant mariners' attaining the minimum standard of competence through demonstrations of their proficiency as Persons in Charge of Medical Care. The Coast Guard tasked MERPAC with referring to the Section, modifying and specifying it as it deemed necessary, and recommending national performance measures. The Coast Guard has reviewed the measures recommended by MERPAC and has developed a final set that we are proposing here for use as guidelines for assessing that proficiency.

The guidelines are set up as follows: First we set forth the Competency within the STCW a mariner must demonstrate to meet the STCW section. Next we give a series of examples of Performance Conditions, a set of Performance Behaviors for each Performance Condition, and a set of Performance Standards for each Performance Behavior.

For example, if the Competency to demonstrate is: “Provide medical care to the sick and injured while they remain on board,” a Performance Condition for that Competency demonstrating knowledge, understanding, and proficiency is: In a graded practical exercise, given a patient simulating a head injury, * * *

A Performance Behavior for that Condition is: * * * the candidate will demonstrate the techniques for conducting a neurological assessment.

A Performance Standard for that Behavior is: The candidate correctly demonstrates the following assessment techniques and states the significance of each finding: (a) Pupillary reaction; (b) Level of consciousness; (c) Verbal communication; and (d) Sensory motor status.

If the mariner properly meets all of the Performance Standards, he or she passes the practical demonstration. If he or she fails to properly carry out any of the Standards, he or she fails it.

Why Is the Coast Guard Taking This Action?

The Coast Guard is taking this action to comply with STCW, as amended in 1995 and incorporated into domestic regulations at 46 CFR parts 10, 12, and 15 in 1997. Guidance from the International Maritime Organization on shipboard assessments of proficiency suggests that Parties develop standards and measures of performance for practical tests as part of their programs for training and assessing seafarers.

How May I Participate in This Action?

You may participate in this action by submitting comments and related material on the national performance measures proposed here. (Although the Coast Guard does not seek public comment on the measures recommended by MERPAC, as district from the measures proposed here, those measures are available on the Internet at the homepage of MERPAC, http://www.uscg.mil/hq/g-m/advisory/merpac/merpac.htm.) These measures are available on the Internet at http://dms.dot.gov, under this docket number [USCG 2001-11149]. They are also available from Mr. Gould where indicated under ADDRESSES. If you submit written comments please include—

• Your name and address;

• The docket number for this Notice [USCG 2001-11149];

• The specific section of the performance measures to which each comment applies; and

• The reason for each comment.

You may mail, deliver, fax, or electronically submit your comments and related material to the Docket Management Facility, using an address or fax number listed in ADDRESSES. Please do not submit the same comment or material more than once. If you mail or deliver your comments and material, they must be on 8½-by-11-inch paper, and the quality of the copy should be clear enough for copying and scanning. If you mail your comments and material and would like to know whether the Docket Management Facility received them, please enclose a stamped, self-addressed postcard or envelope. The Coast Guard will consider all comments and material received during the 60-day comment period.

Once we have considered all comments and related material, we will publish a final version of the national performance measures for use as guidelines by the general public. Individuals and institutions assessing the competence of mariners may refine the final version of these measures and develop innovative alternatives. If you vary from the final version of these measures, however, you must submit your alternative to the National Maritime Center for approval by the Coast Guard under 46 CFR 10.303(e) before you use it as part of an approved course or training program.

Dated: December 6, 2001.
Joseph J. Angelo,
Director, of Standards, Marine Safety and Environmental Protection.

Assessment Guidelines for Table A-VI/4-2

Specification for Minimum Standard of Competency

Proficiency for Persons in Charge of Medical Care

Each candidate for an STCW endorsement as Person in Charge of Medical Care must meet the standards of competence set out in STCW Code Table A-VI/4-2. To accomplish this, he or she must:

• Complete approved education and training and meet all the competencies listed in the table;

• Pass a written examination for the portion of the competencies on knowledge and understanding; and

• Successfully accomplish a practical demonstration of skill for selected competencies.

The United States Coast Guard requires each mariner seeking proficiency as Person in Charge of Medical Care aboard ship to attend a course approved by the National Maritime Center. For this reason, these guidelines contain the assessment criteria for both requirements, knowledge (listed in the paragraph below) and skill, Table A-VI/4-2.

Written Assessments

The knowledge-based or understanding-based portion of the following competencies may be assessed through a written multiple-choice examination. The candidate must achieve a minimum passing grade of 70% in each kind of knowledge or understanding within the competency: Signs and symptoms of bleeding; signs and symptoms of burns, scalds and frostbite; types of wounds and their treatment; signs of infection; procedures to manage systemic pain; procedures to manage pain before cleaning; uses of lidocaine with and without epinephrine; suturing a wound and removing sutures; identifying wounds that may be sutured and criteria for removing sutures; signs, symptoms, and emergency treatment for acute abdominal conditions; steps involved in minor surgical procedures; steps for treating an abdominal evisceration; bandaging a sucking chest wound; identifying general principles of nursing care; inserting or simulating inserting a urinary drainage catheter (male and female); inserting a naso-gastric tube; injecting medicine by intramuscular and subcutaneous route; signs, symptoms and treatments for hyperglycemia, anaphylaxis, dehydration, gonorrhea, syphilis, genital herpes, systemic infections, malaria, and hepatitis A and B; signs of alcoholism and drug abuse, signs of and treatment for toothache and other dental problems; sings, symptoms, and treatments for gynecological conditions, pregnancy and childbirth; methods to determine cause of death and how to prepare a body for storage at sea; personal hygiene; preventing disease aboard ship; preventing disease through vaccination; preparing a patient for evacuation; and methods of cooperation with health authorities in port.

Demonstrations of Skill

In addition to passing a written examination, the competency entitled “Provide medical care to the sick and injured while they remain on board” requires a practical demonstration of skill to assess proficiency. These assessment guidelines establish the conditions under which the assessment will occur, the performance or behavior the candidate is to accomplish, and the standards against which to measure the performance. The examiner should use a checklist in conducting assessments of practical demonstrations of skill. Checklists allow a training institution or designated examiner to avoid overlooking critical tasks when evaluating a candidate's practical demonstration. Training institutions and designated examiners should develop their own checklists for use in conducting the assessments in a complete and structured manner.

Table A-VI/4-2.—Guidelines for Assessment—Specification of Minimum Standard of Competence—Persons in Charge of Medical Care
STCW competence | Knowledge, understanding and proficiency | Performance condition | Performance behavior | Performance standard
Provide medical care to the sick and injured while they remain on board | Care of the casualty involving head and spinal injuries* | In a graded practical exercise, given a patient simulating a head injury | The candidate will demonstrate the techniques for conducting a neurological assessment | The candidate correctly demonstrates the following assessment techniques and states the significance of each finding: 1. Pupillary reaction; 2. Level of consciousness; 3. Verbal communication; and 4. Sensory motor status.
| Care of the casualty involving injuries to ear, nose, throat and eye* | In a graded practical exercise, given a patient simulating a bleed from the ear | The candidate will use external bandages to control bleeding from the ear | The candidate correctly: Applies an external bandage to stem bleeding of the ear; and 2. Does not pack the ear.
|  | In a graded practical exercise, given a patient simulating a nose bleed | The candidate will demonstrate the proper techniques to stop bleeding from the nose | The candidate: 1. Positions the patient sitting upright with the head tilted forward; 2. Pinches the bridge of the nose; and 3. places ice on the back of the neck or the forehead.
|  | In a graded practical exercise, given a patient simulating an object impaled in the eye | The candidate will demonstrate the proper method of bandaging an eye impaled by a foreign object | The student: 1. Immobilizes the object impaled in eye; and 2. bandages both the affected and unaffected eye.
|  | In a graded practical exercise, given a patient simulating a foreign liquid or solid substance in the eye | The candidate will demonstrate the proper method of treating a foreign liquid or solid substance in the eye | The candidate flushes the affected eye for at least 20 minutes with copious amount of water (saline, if immediately available) to wash away chemicals or solid particles.
|  | In a graded practical exercise, given a patient simulating a soft-tissue injury to the throat | The candidate will demonstrate the proper method of treating a soft-tissue injury to the throat | The student: 1. Anticipates a compromised airway; and 2. Maintains airway management techniques.
| Care of the casualty involving external and internal bleeding* | In a graded practical exercise, given a patient simulating bleeding wound | The candidate will demonstrate application of pressure dressing and location of pressure points | The candidate correctly demonstrates the: 1. Location of the brachial and femoral pressure points; and 2. Application of a pressure dressing at the would site.
|  | In a graded practical exercise, given a patient simulating an arterial bleed of an extremity | The candidate will state when to use a tourniquet | The candidate correctly states that a tourniquet will only be applied when: 1. All other methods of controlling bleeding have failed; and 2. Continued bleeding is life-threatening.
| Care of the casualty involving fractures, dislocations and muscular injuries* | In a graded practical exercise, given a patient simulating a fracture of the ankle and a dislocated shoulder, and materials for splinting | The candidate will demonstrate the splinting of an ankle fracture and immobilization of a dislocated shoulder | The candidate correctly applies a pillow splint to an ankle fracture, following the following procedures: 1. Manually stabilizes the fractured ankle or leg; 2. Assesses distal neuro-vascular function; 3. Applies pillow to the ankle and lower leg, wrapping it around the ankle and leg and keeping the foot exposed; 4. Secures pillow using cravats or other device to tie ends together; 5. Re-assesses distal neuro-vascular function; and 6. Seeks medical advice by radio.
|  |  |  | The candidate correctly immobilizes a dislocated shoulder using the following procedures: 1. Assesses distal neuro-vascular; 2. Applies sling using triangular bandage or commercial-type sling (knot of sling should not be pressing on neck); 3. Using a cravat or other binding, applies a swath over sling and around body; and 4. Re-assesses distal neuro-vascular functions.
| Care of the casualty involving techniques of sewing and clamping* | In a graded practical exercise, given a simulated wound, suturing needle and thread, clamps, and suture-removal scissors | The candidate will demonstrate a method to suture a would and method to remove sutures | The candidate correctly demonstrates a standard instrument tie to include the following: 1. Ties all knots to one side of the wound; 2. Begins sutures at center of wound and proceeds outward; and 3. Uses strategic sutures to match up obvious points in irregular wounds.
|  |  |  | The candidate correctly demonstrates suture removal to include the following: 1. Lifts suture with forceps; 2. Cuts suture near skin surface; and 3. Pulls suture out holding the knotted end of the suture.
|  | In a graded practical evaluation, given a simulated chest wound, occlusive dressing materials, and tape | The candidate will bandage a sucking chest wound | The candidate correctly demonstrates the following: 1. Surveys and determines the entrance (and exit) wound(s); 2. Covers wound(s) with occlusive dressing; 3. Tapes three sides of the dressing over the wound; and 4. Monitors respiratory effort of victim.
| Nursing care* | In a graded practical evaluation, given a real patient or urinary-catheterization simulator, and supplies for urinary-catheter insertion | The candidate will insert or simulate inserting a urinary-drainage catheter (male and female) | The candidate correctly demonstrates the following: 1. Maintenance of correct sterile techniques; 2. Cleansing of the meatus; 3. Lubrication of the catheter; 4. Insertion of the catheter into urethra until urine drains; and 5. Opening of the roller clamp of the tubing.
|  | In a graded practical evaluation, given a mannequin and supplies for nasogastric tube insertion | The candidate will insert a naso-gastric tube | The candidate correctly demonstrates the following: 1. Utilizes proper precautions for isolating bodily substances; 2. Measures length of tube to insert; 3. Lubricates tube; 4. Positions patient; 5. Inserts tube through nose; 6. Demonstrates one test to confirm placement; and 7. Secures tube to nose with tape.
|  | In a graded practical evaluation, given a real or simulated patient, and supplies for injections of medicine | The candidate will administer medication injection by intramuscular route | The candidate: 1. Confirms the medicine order, calculates proper dosage, identifies correct medicine and confirmed expiration date; 2. Draws up correct dosage from medicine vial using sterile technique, checking medicine to medicine order at least three times and using correct needle and syringe for injection based on location of injection and amount of medicine; 3. Locates the injection site (deltoid, glutens, or vastus lateralis); 4. Cleanses the injection site with alcohol pad using circular motion; 5. Inserts the needle into muscle at 90° angle; and 6. Aspirates the syringe, and, if no blood, injects the medication.
|  | In a graded practical evaluation, given a real or simulated patient, and supplies for injections of medicine | The candidate will inject medicine by subcutaneous route | The candidate: 1. Confirms the medicine order, calculates proper dosage, identifies correct medicine and confirms expiration date; 2. Draws up the correct dosage from medicine vial using sterile technique, checking medicine to medicine order at least three times and using correct needle and syringe for injection based on location of injection and amount of medicine; 3. Locates the injection site; 4. Cleanses the injection site with alcohol pad using circular motion; 5. Inserts the needle into subcutaneous tissue at 45° angle; and 6. Aspirates the syringe, and, if no blood, injects the medicine.
* Indicates a proficiency from Table A-VI/4-2

[FR Doc. 01-31173 Filed 12-17-01; 8:45 am]

BILLING CODE 4910-15-M